DEPARTMENT OF THE TREASURY

Internal Revenue Service

26 CFR Part 1

[REG-111578-06]

RIN 1545-BF56

Computer Software Under Section 199(c)(5)(B); Hearing Cancellation

AGENCY: Internal Revenue Service (IRS), Treasury.

ACTION: Cancellation of notice of public hearing on proposed rulemaking.

SUMMARY: This document cancels a public hearing on proposed regulations concerning the application of section 199 of the Internal Revenue Code, which provides a deduction for income attributable to domestic production activities, to certain transactions involving computer software.

DATES: The public hearing, originally scheduled for August 29, 2006, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of proposed rulemaking and notice of public hearing that appeared in the Federal Register on Thursday, June 1, 2006, (71 FR 31128), announced that a public hearing was scheduled for August 29, 2006, at 10 a.m., in the IRS Auditorium (New Carrollton Federal Building), 5000 Ellin Road, Lanham, MD 20706. The subject of the public hearing is under section 199 of the Internal Revenue Code.

The public written or electronic comment period for these regulations will expire on August 30, 2006. The outlines of oral comments were due on August 8, 2006. The notice of proposed rulemaking and notice of public hearing instructed those interested in testifying at the public hearing to submit a request to speak and an outline of the topics to be addressed. As of Tuesday, August 15, 2006, no one has requested to speak. Therefore, the public hearing scheduled for August 29, 2006, is cancelled.

Guy R. Traynor,
Chief, Publications and Regulations Branch, Legal Processing Division, Associate Chief Counsel, (Procedure and Administration).

[FR Doc. E6-14090 Filed 8-24-06; 8:45 am]

BILLING CODE 4830-01-P